NUCLEAR REGULATORY COMMISSION

Notice of Extension of the Public Comment Period for Scoping Process To Prepare an Environmental Impact Statement for the License Renewal of Nuclear Power Plants

On June 3, 2003, the U.S. Nuclear Regulatory Commission (the Commission) issued a Notice of Intent To Prepare an Environmental Impact Statement for the License Renewal of Nuclear Power Plants and To Conduct Scoping Process in the Federal Register (68 FR 33209). Notice is hereby given that the Commission has extended the public comment period for the scoping process on the update to the “Generic Environmental Impact Statement (GEIS) for License Renewal of Nuclear Plants,” NUREG-1437 (May 1996) and Addendum 1 (August 1999). The comments already received by the Commission will be considered; this provides additional opportunity for public to reflect on issues that may have emerged during the period that this project was inactive. The public comment period is extended to December 30, 2005.

In 1996 and 1999, the Commission amended its environmental protection regulations in 10 CFR Part 51, “Environmental Protection Regulations for Domestic Licensing and Related Regulatory Functions,” to improve the efficiency of the environmental review process for applicants seeking to renew a nuclear power plant operating license for up to an additional 20 years. The final rules were published in the Federal Register on December 18, 1996 (61 FR 66546), and September 3, 1999 (64 FR 48507). The amendments are based on the analyses reported in NUREG-1437, “Generic Environmental Impact Statement (GEIS) for License Renewal of Nuclear Plants” (May 1996) and its Addendum 1 (August 1999).

The GEIS, prepared by the U.S. Nuclear Regulatory Commission (NRC) staff and its contractors, summarizes the findings of a systematic inquiry into the environmental impacts of refurbishment activities associated with license renewal and the environmental impacts of continued operation during the renewal period (up to 20 years for each licensing action). The significance of environmental impacts were analyzed for each of nearly 100 issues. Thereafter, the NRC categorized which of these analyses could be applied to all plants and whether additional mitigation measures would be warranted for each environmental issue. Of the 92 issues analyzed, 69 issues were resolved generically, 21 require a further site-specific analysis that applicants are required to address, and 2 require a site-specific assessment by the NRC. As part of its application to renew its operating license, an applicant submits a supplemental environmental report and the NRC staff develops a site-specific supplement to the GEIS and includes a recommendation for each license renewal application. The environmental protection regulations for any NRC licensing action is contained in 10 CFR Part 51 and may be viewed on the Internet at http://www.nrc.gov/reading-rm/doc-collections/cfr/part051/index.html. The license renewal process also includes a safety review and inspections prior to issuance of a renewed license.

In the introductory remarks to Appendix B to Subpart A of Part 51, “Environmental Effects of Renewing the Operating License of a Nuclear Power Plant,” the Commission stated that, on a 10-year cycle, it intends to review the material in Table B-1 and update it, if necessary. This update effort began in 2003; the goal of the NRC staff is to complete this GEIS Update Project by the end of 2009.

The purpose of this notice is to inform the public that the NRC continues to plan to prepare an environmental impact statement (EIS), in this case it is an update to the GEIS, and to provide the public an additional opportunity to participate in the environmental scoping process, as defined in 10 CFR 51.29. The scoping process is the initial opportunity for stakeholder participation in the GEIS update and it occurs before the NRC has determined results or recommendations for the update. The environmental review process for license renewal will continue under the current regulatory framework throughout the course of this effort. If, as a result of this scoping process, it is determined that an update is not necessary, then that result will be published in the Federal Register as well.

The GEIS and Addendum 1 to the GEIS were prepared pursuant to 10 CFR part 51 and are available for public inspection at the NRC Public Document Room (PDR), located at One White Flint North, 11555 Rockville Pike (first floor), Rockville, Maryland, or from the Publicly Available Records component of NRC's Agencywide Documents Access and Management System (ADAMS). ADAMS is accessible at http://www.nrc.gov/reading-rm/adams.html, which provides access through the NRC's Electronic Reading Room link. Persons who do not have access to ADAMS, or who encounter problems in accessing the documents located in ADAMS, should contact the NRC's PDR Reference staff at 1-800-397-4209, or 301-415-4737, or by e-mail to PDR@NRC.GOV. The GEIS, its Addendum 1, and its supplements may also be viewed on the Internet at http://www.nrc.gov/reading-rm/doc-collections/nuregs/staff/sr1437. As indicated, the NRC prepares site-specific supplements to the GEIS for each license renewal application assessing the environmental impacts specific to that power plant location; these reports may be useful to scoping participants to understand the environmental review process and the environmental issues associated with the review for license renewal. The supplements to the GEIS also can be viewed on the Internet in the context for each project and are listed by project at http://www.nrc.gov/reactors/operating/licensing/renewal/applications.html. The update of the GEIS is a generic activity; therefore, is not the appropriate forum to consider site-specific issues or concerns.

In keeping with the framework outlined under the National Environmental Policy Act, the NRC conducts this scoping process for the update to the GEIS and, thereafter, plans to prepare a draft addendum to the GEIS for public comment outlining the results of the NRC review. Participation in the scoping process by members of the public and local, State, Tribal, and Federal government agencies is encouraged. The scoping process for the addendum to the GEIS will be used to accomplish the following:

a. Determine whether the purpose and need for the update (the proposed action) is clear.

b. Determine the scope of the addendum to the GEIS and identify whether there are any significant issues that should be analyzed in depth.

c. Identify and eliminate from detailed study those issues that are peripheral or that are not significant or which have been covered by prior environmental review.

d. Identify any environmental assessments and other EISs that are being or will be prepared that are related to, but are not part of the scope of the addendum to the GEIS being considered.

e. Identify other environmental review and consultation requirements related to the proposed action.

f. Indicate the relationship between the timing of the preparation of the environmental analyses and the Commission's tentative planning and decision-making schedule.

g. Identify any cooperating agencies and, as appropriate, allocate assignments for preparation and schedules for completing the addendum to the GEIS to the NRC and any cooperating agencies.

h. Describe how the addendum to the GEIS will be prepared including any contractor assistance to be used.

The NRC invites the following entities to participate in the scoping process:

a. Any Federal agency that has jurisdiction by law or special expertise with respect to any environmental impact involved, or that is authorized to develop and enforce relevant environmental standards.

b. Any affected State and local government agencies, including those authorized to develop and enforce relevant environmental standards.

c. Any affected Indian tribe.

d. Any person who requests or has requested an opportunity to participate in the scoping process.

The scoping process for an EIS may include a public scoping meeting to help identify significant issues related to a proposed activity and to determine the scope of issues to be addressed in an EIS. The NRC conducted four public meetings on the GEIS in July 2003. These meetings were transcribed; the transcripts are available for public inspection at the NRC PDR or from the Publicly Available Records component of NRC's ADAMS. ADAMS is accessible at http://www.nrc.gov/reading-rm/adams.html, which provides access through the NRC's Electronic Reading Room link. Written comments already received by the Commission are available electronically and accessible through the NRC's Electronic Reading Room link in ADAMS. As described above, persons who do not have access to ADAMS, or who encounter problems in accessing the documents located in ADAMS, should contact the NRC's PDR Reference staff at 1-800-397-4209, or 301-415-4737, or by e-mail to PDR@NRC.GOV.

Members of the public may send any additional written comments on the environmental scope of the GEIS Update Project to the Chief, Rules and Directives Branch, Division of Administrative Services, Office of Administration, Mailstop T-6D59, U.S. Nuclear Regulatory Commission, Washington, DC 20555-0001, and should cite the publication date and page number of this Federal Register notice. Comments may also be delivered to Room T-6D59, Two White Flint North, 11545 Rockville Pike, Rockville, Maryland, from 7:30 a.m. to 4:15 p.m. during Federal workdays. To be considered in the scoping process, written comments should be postmarked by December 30, 2005. Additional electronic comments may be sent by e-mail to the NRC at LRGEISUpdate@nrc.gov. Electronic submissions should be sent no later than December 30, 2005, to be considered timely in the scoping process. Comments will be available electronically and accessible through the NRC's Electronic Reading Room link at http://www.nrc.gov/reading-rm/adams.html.

At the conclusion of the scoping process, the NRC will prepare a summary of the determinations and conclusions reached, including the significant issues identified, and will send a copy of the summary to participants in the scoping process. The summary also will be available for inspection at the NRC PDR or through the Electronic Reading Room link. If necessary, the staff will then prepare and issue for comment the draft addendum to the GEIS, which will be the subject of a separate Federal Register notice, to report the results of the NRC's review. At this time, the NRC plans to conduct separate public meetings, at similar locations as the public scoping meetings, on the draft addendum to the GEIS. Copies of the draft addendum to the GEIS will be available for public inspection at the above-mentioned address, and one copy per request will be provided free of charge. After receipt and consideration of the comments on the draft, the NRC will prepare a final addendum to the GEIS, which will also be available for public inspection. Should the review indicate that one or more environmental issues enumerated in Appendix B to Subpart A of Part 51, “Environmental Effects of Renewing the Operating License of a Nuclear Power Plant,” requires change, then the proposed and final rule amendments will accompany the draft and final addendum to the GEIS.

For Further Information Contact: Mr. Barry Zalcman, License Renewal and Environmental Impacts Program, Division of Regulatory Improvement Programs, U.S. Nuclear Regulatory Commission, Washington, DC 20555. Mr. Zalcman may be contacted by telephone at 1-800-368-5642, extension 2419, or by e-mail at LRGEISUpdate@nrc.gov.

Dated at Rockville, Maryland, this 27th day of September, 2005.
For the Nuclear Regulatory Commission.
Jacob Zimmerman,
Acting Program Director, License Renewal and Environmental Impacts Program, Division of Regulatory Improvement Programs, Office of Nuclear Reactor Regulation.

[FR Doc. E5-5356 Filed 9-30-05; 8:45 am]

BILLING CODE 7590-01-P